DEPARTMENT OF COMMERCE

National Institute of Standards and Technology

Visiting Committee on Advanced Technology

AGENCY: National Institute of Standards and Technology, Department of Commerce.

ACTION: Notice of Public Meeting.

SUMMARY: The Visiting Committee on Advanced Technology (VCAT), National Institute of Standards and Technology (NIST), will meet Wednesday, October 13, 2010, from 8:30 a.m. to 5 p.m. and Thursday, October 14, 2010, from 8:30 a.m. to 2:30 p.m. The Visiting Committee on Advanced Technology is composed of fifteen members appointed by the Director of NIST who are eminent in such fields as business, research, new product development, engineering, labor, education, management consulting, environment, and international relations.

DATES: The VCAT will meet on Wednesday, October 13, 2010 from 8:30 a.m. to 5 p.m. and Thursday, October 14, 2010, from 8:30 a.m. to 2:30 p.m.

ADDRESSES: The meeting will be held in the Portrait Room, Administration Building, at NIST, Gaithersburg, Maryland. The rooms for the VCAT Breakout Groups will be announced at the meeting. Please note admittance instructions under the SUPPLEMENTARY INFORMATION section of this notice.

FOR FURTHER INFORMATION CONTACT: Stephanie Shaw, Visiting Committee on Advanced Technology, National Institute of Standards and Technology, Gaithersburg, Maryland 20899-1060, telephone number (301) 975-2667. Ms. Shaw's e-mail address is stephanie.shaw@nist.gov.

SUPPLEMENTARY INFORMATION:

Authority: 15 U.S.C. 278.

The purpose of this meeting is to review and make recommendations regarding general policy for the Institute, its organization, its budget, and its programs within the framework of applicable national policies as set forth by the President and the Congress. The first day's agenda will include an update on NIST; presentations on NIST proposed performance evaluation framework and example implementations for NIST calibration services and Standard Reference Materials; and a presentation on the Administration's Priorities on Innovation by Mr. Aneesh Chopra, Chief Technology Officer and Associate Director for Technology, Office of Science and Technology Policy. Three concurrent breakout groups will be convened in which NIST Division Chiefs will provide information on selected NIST measurement services to the VCAT members. The first day will conclude with the VCAT discussion on NIST measurement services planning and management. On the second day, the meeting will focus on measurement and standards needs in forensic sciences including external perspectives from guest speakers and an overview and examples of forensic science activities at NIST. Other topics include a discussion on the initial outputs of the Blue Ribbon Commission II Safety Management; an update on external needs assessment activities, and a wrap-up discussion, recommendations, and plans for the 2010 VCAT Annual Report. The agenda may change to accommodate Committee business. The final agenda will be posted on the NIST Web site at http://www.nist.gov/director/vcat/agenda.htm.

Individuals and representatives of organizations who would like to offer comments and suggestions related to the Committee's affairs are invited to request a place on the agenda. On October 13, 2010, approximately one-half hour will be reserved in the afternoon for public comments, and speaking times will be assigned on a first-come, first-serve basis. The amount of time per speaker will be determined by the number of requests received, but is likely to be about 3 minutes each. The exact time for public comments will be included in the final agenda that will be posted on the NIST Web site at http://www.nist.gov/director/vcat/agenda.htm. Questions from the public will not be considered during this period. Speakers who wish to expand upon their oral statements, those who had wished to speak but could not be accommodated on the agenda, and those who were unable to attend in person are invited to submit written statements to the VCAT, National Institute of Standards and Technology, 100 Bureau Drive, MS 1060, Gaithersburg, Maryland 20899, via fax at 301-216-0529 or electronically by e-mail to gail.ehrlich@nist.gov.

All visitors to the NIST site will have to pre-register to be admitted. Please submit your name, time of arrival, e-mail address and phone number to Stephanie Shaw no later than Friday, October 8, 2010, and she will provide you with instructions for admittance. Ms. Shaw's e-mail address is stephanie.shaw@nist.gov and her phone number is (301) 975-2667.

Dated: September 27, 2010.
David Robinson,
Associate Director for Management Resources.

[FR Doc. 2010-24579 Filed 9-28-10; 8:45 am]

BILLING CODE 3510-13-P